NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 16, 2026. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 16 U.S.C. 2401 et seq.), as amended by the Antarctic Science, Tourism and Conservation Act of 1996 (Pub. L. 104-227), has developed regulations (45 CFR parts 670 to 674) for the establishment of a permit system for various activities in Antarctica related to the designation of certain animals and certain geographic areas as requiring special protection, among other purposes.

Application Details

Permit Application: 2026-011

1. Applicant: Daniel Villa, Sea Shepherd Global, 1217 S 9th St., Tacoma, WA 98405

Activity for Which Permit Is Requested: Waste Management (45 CFR 671). The applicant seeks an Antarctic Conservation Permit for waste management activities associated with use of remotely piloted aircraft systems (RPAS) in Antarctica. RPAS will be used for documenting krill fishery activities only. RPAS will not be flown over any concentrations of wildlife, Antarctic Specially Protected or Managed Areas or Historic Sites and Monuments without appropriate authorization. Several measures would be taken to prevent loss of the aircraft, including that aircraft are only to be flown by experienced, pre-approved pilots in fair weather conditions and in the presence of an observer, who will always maintain visual line of sight with the aircraft during operation.

Location: Antarctic Peninsula region.

Dates of Permitted Activities: 1 January 2026-1 May 2026.

Permit Application: 2026-012

2. Applicant: Ricardo Kramer, Oceanwide Sail Expeditions Inc. (OSEI), 222 Pennbright Drive, Suite 109A, Houston TX 77090

Activity for Which Permit Is Requested: Waste Management (45 CFR 671). The applicant seeks an Antarctic Conservation Act permit for waste management activities associated with helicopter operations in the Antarctic peninsula region during up to four tourism cruises aboard the Dutch vessel M/V Ortelius. OSEI proposes to charter 4 helicopters and certified experienced pilots from DAP Helicópteros (Punta Arenas, Chile). OSEI will be the operator of record and will oversee all activities undertaken by DAP Helicópteros as part of M/V Ortelius' activities in Antarctica.

Helicopters will be used for aerial sightseeing and landings away from the ship. Helicopter landings are planned on both land and sea ice. Local conditions will in part determine the final itinerary. Helicopter activities will take place in a way that does not disturb wildlife and will not result in harmful interference with native animals and plants. Trips will be of short duration and will be conducted in good to acceptable weather conditions and will not enter any Antarctic Special Protected Areas.

Location: Antarctic Peninsula region and the Weddell Sea.

Dates of Permitted Activities: December 2025-February 2027.

Permit Application: 2026-013

3. Applicant: Zhongwen Zhan, California Institute of Technology, 1200 East California Blvd., Pasadena, CA 91125

Activity for Which Permit Is Requested: Waste Management (45 CFR 671). The applicant seeks an Antarctic Conservation Act permit for waste management activities associated with research on critical processes that control glacier dynamics at Union Glacier in the vicinity of Constellation Inlet. To accomplish the research, the project will deploy a number of different instruments over the course of the permit period. The applicants will contract with Antarctic Logistics & Expeditions LLC (ALE) for services including communications and medical evacuation support, flight provisioning, field support such as snowmobiles, accommodations, guides, fuel and equipment. All participants in the project will receive environmental and safety training prior to deployment as well as on-site training at Union Glacier Base camp before relocating to the Constellation Inlet field camp with a total anticipated time in the field of 20 days. Glacial dynamics will be measured in the vicinity of the Constellation Inlet. This work requires the installation of up to 20 km of thin single strand fiberoptic cables weighing a total of less than 10 kg to provide a backbone for a Distributed Acoustic Sensor (DAS) to detect seismic stress. The cables will be placed in narrow ice trenches, and the trenches will then be backfilled and compressed. The subsequent sintering will prevent removal of the cables at the conclusion of the study but also protects them from redistribution in the environment. In addition, up to 500 accelerometers and 20 Geophones will be deployed along the DAS array and will be removed at project completion by ALE employees. Stationary and towed ground penetrating radar systems will also be employed along with a 10 antenna Global Navigation Satellite System array and removed after use.

Location: Union Glacier.

Dates of Permitted Activities: 5 January 2025-28 February 2027.

Permit Application: 2026-015

4. Applicant: Benjamin Couturier, P.O. Box 2174, Seward, AK 99664 USA

Activity for Which Permit Is Requested: Waste Management (45 CFR 671). The applicant seeks an Antarctic Conservation Act permit for waste management activities associated with operating the motor yacht Kalista and using Remotely Piloted Aircraft Systems (RPAS) in Antarctic waters. Operations would include shore excursions by dinghy. The yacht would carry up to 4,226 gallons of diesel fuel in internal tanks. In addition, up to 165 gallons of gasoline will be stored in external storage tanks for use in dinghy operation. Transfer of fuel from external tanks would be conducted in a contained and controlled environment. A spill kit and absorbent pads would be available during all fueling and fuel transfers. Solid waste will be contained and stored on the vessel and disposed of outside of the Antarctic Treaty area. The applicant would operate small, battery-operated RPAS consisting, in part, of a quadcopter equipped with cameras to aid in navigation and to collect footage of the Antarctic. The RPAS would not be flown over wildlife, or over Antarctic Specially Protected Areas or Historic Sites and Monuments. Several measures would be taken to prevent against loss of the RPAS including terminating flights with at least 40% battery life remaining; having an observer on the lookout for wildlife, people, and other hazards; maintaining flights below 400 ft above ground level and ensuring that the separation between the operator and quadcopter does not exceed visual line of sight. The applicant is seeking a Waste Permit to cover any accidental releases that may result from operating the vessel, conducting shore excursions, or operating the RPAS.

Location: Antarctic Peninsula region.

Dates of Permitted Activities: 20 January 2026-6 March 2030.

Permit Application: 2026-018

5. Applicant: Ona Hahs, U.S. Department of State, Bureau of Oceans and International Environmental and Scientific Affairs, Office of Ocean and Polar Affairs, 2201 C St. NW, Washington, DC 20520

Activity for Which Permit Is Requested: Enter Antarctic Specially Protected Area (45 CFR 670). The applicant seeks an ACA permit to enter Antarctic Specially Protected Areas (ASPAs). The U.S. Department of State will lead an interagency team of U.S. inspectors into protected areas to verify compliance with the provisions and values of the Antarctic Treaty and its Environmental Protocol and to review the appropriateness and effectiveness of current management provisions for protecting and preserving Antarctica.

Location: ASPA 101—Taylor Rookery, Mac. Robertson Land; ASPA 102—Rookery Islands, Holme Bay, Mac. Robertson Land; ASPA 103—Ardery Island and Odbert Island, Budd Coast, Wilkes Land, East Antarctica; ASPA 104—Sabrina Island, Balleny Islands; ASPA 105—Beaufort Island, McMurdo Sound, Ross Sea; ASPA 106—Cape Hallett, Northern Victoria Land, Ross Sea; ASPA 107—Emperor Island, Dion Islands, Marguerite Bay, Antarctic Peninsula; ASPA 108—Green Island, Berthelot Islands, Antarctic Peninsula; ASPA 109—Moe Island, South Orkney Islands; ASPA 110—Lynch Island, South Orkney Islands; ASPA 111—Southern Powell Island and adjacent islands, South Orkney Islands; ASPA 112—Coppermine Peninsula, Robert Island, South Shetland Islands; ASPA 113—Litchfield Island, Arthur Harbor, Anvers Island, Palmer Archipelago; ASPA 115—Lagotellerie Island, Marguerite Bay, Graham Land; ASPA 116—New College Valley, Caughley Beach, Cape Bird, Ross Island; ASPA 117—Avian Island, Marguerite Bay, Antarctic Peninsula; ASPA 119—Davis Valley and Forlidas Pond, Dufek Massif, Pensacola Mountains; ASPA 120—Pointe-Géologie Archipelago, Terre Adélie; ASPA 121—Cape Royds, Ross Island; ASPA 122—Arrival Heights, Hut Point Peninsula, Ross Island; ASPA 123—Barwick and Balham Valleys, Southern Victoria Land; ASPA 124—Cape Crozier, Ross Island; ASPA 125—Fildes Peninsula, King George Island (25 de Mayo); ASPA 126—Byers Peninsula, Livingston Island, South Shetland Islands; ASPA 127—Haswell Island; ASPA 128—Western shore of Admiralty Bay, King George Island, South Shetland Islands; ASPA 129—Rothera Point, Adelaide Island; ASPA 131—Canada Glacier, Lake Fryxell, Taylor Valley, Victoria Land; ASPA 132—Potter Peninsula, King George Island (Isla 25 de Mayo), South Shetland Islands; ASPA 133—Harmony Point, Nelson Island, South Shetland Islands; ASPA 134—Cierva Point and offshore islands, Danco Coast, Antarctic Peninsula; ASPA 135—North-east Bailey Peninsula, Budd Coast, Wilkes Land; ASPA 136—Clark Peninsula, Budd Coast, Wilkes Land, East Antarctica; ASPA 137—Northwest White Island, McMurdo Sound; ASPA 138—Linnaeus Terrace, Asgard Range, Victoria Land; ASPA 139—Biscoe Point, Anvers Island, Palmer Archipelago; ASPA 140—Parts of Deception Island, South Shetland Islands; ASPA 141—Yukidori Valley, Langhovde, Lützow-Holm Bay; ASPA 142—Svarthamaren; ASPA 143—Marine Plain, Mule Peninsula, Vestfold Hills, Princess Elizabeth Land; ASPA 145—Port Foster, Deception Island, South Shetland Islands; ASPA 146—South Bay, Doumer Island, Palmer Archipelago; ASPA 147—Ablation Valley and Ganymede Heights, Alexander Island; ASPA 148—Mount Flora, Hope Bay, Antarctic Peninsula; ASPA 149—Cape Shirreff and San Telmo Island, Livingston Island, South Shetland Islands; ASPA 150—Ardley Island, Maxwell Bay, King George Island (25 de Mayo); ASPA 151—Lions Rump, King George Island, South Shetland Islands; ASPA 154—Botany Bay, Cape Geology, Victoria Land; ASPA 155—Cape Evans, Ross Island; ASPA 156—Lewis Bay, Mount Erebus, Ross Island; ASPA 157—Backdoor Bay, Cape Royds, Ross Island; ASPA 158—Hut Point, Ross Island; ASPA 159—Cape Adare, Borchgrevink Coast; ASPA 160—Frazier Islands, Windmill Islands, Wilkes Land, East Antarctica; ASPA 161—Terra Nova Bay, Ross Sea; ASPA 162—Mawson's Huts, Cape Denison, Commonwealth Bay, George VLand, East Antarctica; ASPA 163—Dakshin Gangotri Glacier, Dronning Maud Land; ASPA 164—Scullin and Murray Monoliths, Mac.Robertson Land; ASPA 165—Edmonson Point, Wood Bay, Ross Sea; ASPA 166—Port-Martin, Terre-Adélie; ASPA 167—Hawker Island, Princess Elizabeth Land; ASPA 168—Mount Harding, Grove Mountains, East Antarctica; ASPA 169—Amanda Bay, Ingrid Christensen Coast, Princess Elizabeth Land, East Antarctica; ASPA 170—Marion Nunataks, Charcot Island, Antarctic Peninsula; ASPA 171—Narebski Point, Barton Peninsula, King George Island; ASPA 172—Lower Taylor Glacier and Blood Falls, McMurdo Dry Valleys, Victoria Land; ASPA 173—Cape Washington and Silverfish Bay, Terra Nova Bay, Ross Sea; ASPA 174—Stornes, Larsemann Hills, Princess Elizabeth Land; ASPA 175—High Altitude Geothermal sites of the Ross Sea region; ASPA 176—Rosenthal Islands, Anvers Island, Palmer Archipelago; ASPA 177—Léonie Islands and South-East Adelaide Island, Antarctic Peninsula; ASPA 178—Inexpressible Island and Seaview Bay, Ross Sea; ASPA 179—Parts of Western Sør Rondane Mountains, Dronning Maud Land, East Antarctica; ASPA 180—Danger Islands Archipelago, North-eastern Antarctic Peninsula; ASPA 181—Farrier Col, Horseshoe Island, Marguerite Bay; ASPA 182—Western Bransfield Strait and Eastern Dallman Bay.

Dates of Permitted Activities: 1 January 2026-31 December 2030.

Permit Application: 2026-019

6. Applicant: Jan Helge Pile, Vice President Marine & Technical Operations, ROW Management LTD, 1551 Sawgrass Corporate Parkway, Suite 200, Fort Lauderdale, FL 33323

Activity for Which Permit Is Requested: Waste Management (45 CFR 671). The applicant seeks an Antarctic Conservation Act permit for waste management activities associated with operation of small Remotely Piloted Aircraft Systems (RPAS) for use in commercial filming and ice reconnaissance aboard M/V The World. EYOS Expeditions Ltd. of Vashon Island, Washington, has been contracted by ROW management to oversee expedition operations. Commercial marketing footage will include broad sea-, land- and icescapes, and the vessel underway and at anchor, to capture portraiture of the expedition. The activity will be conducted by EYOS Expeditions staff experienced with RPAS filming and under the EYOS expedition leader's supervision. Only trained and experienced pilots will be used for piloting RPAS. RPAS will not be operated in the vicinity of concentrations of wildlife and will not disrupt wildlife. RPAS will not be flown over Antarctic Specially Protected Areas, Historic Sites and Monuments, or Antarctic Specially Managed Areas. Several measures would be taken to prevent loss of the RPAS including the use of high visibility coloration and flotation devices.

Location: Antarctic Peninsula and Ross Sea regions.

Dates of Permitted Activities: 29 January-17 February 2026.

Permit Application: 2026-020

7. Applicant: Sibrand Hassing, Holland America Line Limited, 450 3rd Avenue West, Seattle, WA 98119

Activity for Which Permit Is Requested: Waste Management (45 CFR 671). The applicant requests an ACA permit for waste management activities associated with operation of small, battery operated, remotely piloted aircraft systems (RPAS) equipped with cameras to take scenic photos and film of the Antarctic. The RPAS would not be flown over concentrations of birds or mammals or over Antarctic Specially Protected Areas. The RPAS would only be flown by operators with extensive experience, who are pre-approved by the expedition leader. Several measures would be taken to prevent loss of the RPAS including painting them a highly visible color; only flying when the wind is less than 12 m/s; having prop guards on propeller tips, a flotation device if operated over water, and a “go home” feature in case of loss of control link or low battery; having an observer on the lookout for wildlife, people, and other hazards; and ensuring that the separation between the operator and RPAS does not exceed an operational range of 500 meters.

Jean C. Allen,
CORF Division Director for Polar Programs, Office of Polar Programs.

[FR Doc. 2025-23056 Filed 12-16-25; 8:45 am]

BILLING CODE 7555-01-P